DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and U.S. Army Corps of Engineers (USACE).

SUMMARY: The FHWA, on behalf of Caltrans, is issuing this notice to announce actions taken by Caltrans, and USACE that are final within the meaning of 23 U.S.C. 139(l) (1). The actions relate to a proposed highway project, U.S. Route 101 from 1.1 mile north of the Mendocino County line to 2.2 miles north of the Mendocino County line in the County of Humboldt, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before June 18, 2012. If the Federal law that authorizes judicial review of a claim provides a time period of less than 180 days for filing such claim, then that shorter time period still applies.

FOR FURTHER INFORMATION CONTACT: For Caltrans: Deborah Harmon, Senior Environmental Planner, North Region Environmental Services, 1656 Union Street, Eureka, CA 95501 8 am to 5 pm, (707) 445-6431, deborah_harmon@dot.ca.gov. For USACE: Jane Hicks, Chief Regulatory Branch, 1455 Market Street, San Francisco, CA 94103-1399 8 a.m. to 5 p.m., (415) 503-6771 Jane.M.Hicks@usace.army.mil.

SUPPLEMENTARY INFORMATION: Effective July 1, 2007, the Federal Highway Administration (FHWA) assigned, and the California Department of Transportation (Caltrans) assumed, environmental responsibilities for this project pursuant to 23 U.S.C. 327. Notice is hereby given that the Caltrans, and USACE have taken final agency actions subject to 23 U.S.C. 139(l)(1) by issuing licenses, permits, and approvals for the following highway project in the State of California: Richardson Grove Operational Improvement Project to provide Surface Transportation Assistance Act (STAA) access on U.S. Route 101. Project limit is from 1.1 mile north of the Mendocino County line to 2.2 miles north of the Mendocino County line and would include minor curve realignments, drainage improvements, shoulder widening, cuts and fills, and a retaining wall. The actions by the Federal agencies, and the laws under which such actions were taken, are described in the Final Environmental Assessment/Finding of No Significant Impact (FONSI) for the project, approved on May 18, 2010. The FONSI and other project records are available by contacting Caltrans at the addresses provided above. The Caltrans FONSI can be viewed and downloaded from the Project Web site at http://www.dot.ca.gov/dist1/d1projects/richardson_grove/ or viewed at public libraries in the project area. The USACE decision and 404 permit [2009-00098] for the drainage improvements is available by contacting USACE at the address provided above. This notice applies to all Federal agency decisions as of the issuance date of this notice and all laws under which such actions were taken, including but not limited to:

1. Endangered Species Act.

2. National Historic Preservation Act of 1966 as amended.

3. Wild and Scenic Rivers Act.

4. Section 4(f) of the Department of Transportation Act of 1966.

5. Clean Water Act.

6. National Environmental Policy Act (NEPA).

(Catalog of Federal Domestic Assistance Program Number 20.205, Highway Planning and Construction. The regulations implementing Executive Order 12372 regarding intergovernmental consultation on Federal programs and activities apply to this program.)

Authority: 23 U.S.C. 139(l)(1).

Issued on: December 13, 2011.
Matthew Schmitz,
Director, State Programs, Federal Highway Administration, Sacramento, California.

[FR Doc. 2011-32388 Filed 12-16-11; 8:45 am]

BILLING CODE 4910-RY-P